DEPARTMENT OF TRANSPORTATION

Federal Transit Administration

[FTA Docket No. FTA-2006-25082]

Notice of Request for the Extension of Currently Approved Information Collections

AGENCY: Federal Transit Administration, DOT.

ACTION: Notice of request for comments.

SUMMARY: The Federal Transit Administration invites public comments about our intention to request the Office of Management and Budget's (OMB) approval to renew the following information collections:

(1) Bus Testing Program.

(2) Transit Research, Development, Demonstration and Deployment Projects.

The collections involve our Bus Testing and Transit Research Programs. The information to be collected for the Bus Testing Program is necessary to ensure that buses have been tested at the Bus Testing Center for maintainability, reliability, safety, performance, structural integrity, fuel economy, emissions, and noise. The information to be collected for Transit Research, Development, Demonstration and Deployment Projects is necessary to determine eligibility of applicants and ensure mass transportation service at a minimum cost. We are required to publish this notice in the Federal Register by the Paperwork Reduction Act of 1995.

DATES: Comments must be submitted before August 21, 2006.

ADDRESSES: You may mail or hand deliver comments to the U.S. Department of Transportation, Dockets Management Facility, Room PL-401, 400 Seventh Street, SW., Washington, DC 20590; telefax comments to (202) 493-2251; or submit electronically at http://dms.dot.gov. All comments should include the docket number in this notice's heading. All comments may be examined and copied at the above address from 9 a.m. to 5 p.m., Monday through Friday, except Federal holidays. If you desire a receipt, you must include a self-addressed, stamped envelope or postcard or, if you submit your comments electronically, you may print the acknowledgement page.

FOR FURTHER INFORMATION CONTACT:

—Mr. Marcel Belanger, FTA Office of Research, Demonstration and Innovation, (202) 366-0725, for the Bus Testing Program.

—Mr. Bruce Robinson, FTA Office of Research, Demonstration and Innovation, (202) 366-4209, for Transit Research, Development, Demonstration and Deployment Projects.

SUPPLEMENTARY INFORMATION: Interested parties are invited to send comments regarding any aspect of these information collections, including: (1) The necessity and utility of the information collection for the proper performance of the functions of the FTA; (2) the accuracy of the estimated burden; (3) ways to enhance the quality, utility, and clarity of the collected information; and (4) ways to minimize the collection burden without reducing the quality of the collected information. Comments submitted in response to this notice will be summarized and/or included in the request for OMB approval of these information collections.

Title: Bus Testing Program.

OMB Control No.: 2132-0550.

Background: 49 U.S.C. 5323(c) provides that no Federal funds appropriated or made available after September 30, 1989, may be obligated or expended for the acquisition of a new bus model (including any model using alternative fuels) unless the bus has been tested at the Bus Testing Center (Center) in Altoona, Pennsylvania. 49 U.S.C. 5318(a) further specifies that each new bus model is to be tested for maintainability, reliability, safety, performance (including braking performance), structural integrity, fuel economy, emissions, and noise.

The operator of the Bus Testing Center, the Pennsylvania Transportation Institute (PTI), has entered into a cooperative agreement with FTA. PTI operates and maintains the Center, and establishes and collects fees for the testing of the vehicles at the facility. Upon completion of the testing of the vehicle at the Center, a test report is provided to the manufacturer of the new bus model. The bus manufacturer certifies to an FTA grantee that the bus the grantee is purchasing has been tested at the Center. Also, grantees about to purchase a bus use this report to assist them in making their purchasing decisions. PTI maintains a reference file for all the test reports which are made available to the public.

Respondents: Bus manufacturers.

Estimated Annual Burden on Respondents: 30 testing determinations @ 3 hours each; 18 tests @ 3 hours each; and 520 requirements @ 0.5 hours each.

Estimated Total Annual Burden: 404 hours.

Frequency: On occasion.

Title: 49 U.S.C. Section 5312(a) Transit Research, Development, Demonstration and Deployment Projects

OMB Control No.: 2132-0546

Background: 49 U.S.C. 5312(a) authorizes the Secretary of Transportation to make grants or contracts for research, development, demonstration and deployment projects, and evaluation of technology of national significance to public transportation, that the Secretary determines will improve mass transportation service or help transportation service meet the total urban transportation needs at a minimum cost. In carrying out the provisions of this section, the Secretary is also authorized to request and receive appropriate information from any source.

The information collected is submitted as part of the application for grants and cooperative agreements and is used to determine eligibility of applicants. Collection of this information also provides documentation that the applicants and recipients are meeting program objectives and are complying with FTA Circular 6100.1B and other federal requirements.

Respondents: FTA grants recipients.

Estimated Annual Burden on Respondents: 56 hours for each of the 200 respondents.

Estimated Total Annual Burden: 11,240 hours.

Frequency: Annual.

Public Comments Invited: You are asked to comment on any aspect of this information collection, including: (1) Whether the proposed collection is necessary for FTA's performance; (2) the accuracy of the estimated burden; (3) ways for FTA to enhance the quality, usefulness, and clarity of the collected information; and (4) ways that the burden could be minimized without reducing the quality of the collected information. The agency will summarize and/or include your comments in the request for OMB's clearance of this information collection.

Authority: The Paperwork Reduction Act of 1995; 44 U.S.C. chapter 35, as amended; and 49 CFR 1.48.

Issued on: June 15, 2006.
Ann Linnertz,
Acting Associate Administrator for Administration.

[FR Doc. E6-9669 Filed 6-19-06; 8:45 am]

BILLING CODE 4910-57-P